DEPARTMENT OF AGRICULTURE

Forest Service

Eastern Arizona Counties Resource Advisory Committee

AGENCY: Forest Service, USDA.

ACTION: Notice of meeting.

SUMMARY: The Eastern Arizona Counties Resource Advisory Committee will meet in Snowflake, Arizona. The purpose of the meeting is to review and approve projects for funding.

DATES: The meeting will be held December 3, 2004, at 12:30 p.m.

ADDRESSES: The meeting will be held at the Silver Creek Campus of Northland Pioneer College, Symposium Room (LC101), located on Highway 77, Snowflake, Arizona. Send written comments to Robert Dyson, Eastern Arizona Counties Resource Advisory Committee, c/o Forest Service, USDA, P.O. Box 640, Springerville, Arizona 85938 or electronically to rdyson@fs.fed.us.

FOR FURTHER INFORMATION CONTACT: Robert Dyson, Public Affairs Officer, Apache-Sitgreaves National Forests, (928) 333-4301.

SUPPLEMENTARY INFORMATION: The meeting is open to the public. Committee discussion is limited to Forest Service staff and Committee members. However, persons who wish to bring Pub. L. 106-393 related matters to the attention of the Committee may file written statements with the Committee staff three weeks before the meeting. Opportunity for public input will be provided.

Dated: November 1, 2004.
Elaine J. Zieroth,
Forest Supervisor, Apache-Sitgreaves National Forests.

[FR Doc. 04-25723 Filed 11-18-04; 8:45 am]

BILLING CODE 3410-11-M